DEPARTMENT OF LABOR

Employment and Training Administration

[TA-W-59,215 and TA-W-59,215A]

Convergys Corporation, Tampa, FL and Hillsboro, OR; Notice of Termination of Investigation

Pursuant to section 221 of the Trade Act of 1974, as amended, an investigation was initiated on April 14, 2006 in response to a petition filed by a company official on behalf of workers at Convergys Corporation, Tampa, Florida (TA-W-59,215), and Convergys Corporation, Hillsboro, Oregon (TA-W-59,215A).

The petitioner has requested that the petition be withdrawn. Consequently, the investigation has been terminated.

Signed at Washington, DC, this 25th day of April, 2006
Linda G. Poole,
Certifying Officer, Division of Trade Adjustment Assistance.

[FR Doc. E6-7127 Filed 5-9-06; 8:45 am]

BILLING CODE 4510-30-P